DEPARTMENT OF TRANSPORTATION

Federal Aviation Administration

[Docket No. FAA-2022-0345]

Airport Improvement Program (AIP) Grant Assurances; Errata Notice Extending Comment Date

AGENCY: Federal Aviation Administration (FAA), Department of Transportation.

On April 4, 2022, the FAA issued a notice in the above-captioned matter. The notice indicated that the FAA would accept comments concerning the proposed modified grant assurances until “April 12, 2022.” This notice extends the comment due date to April 20, 2022.

Issued in Washington, DC, on April 5, 2022.
Robert A. Hawks,
Deputy Director, Office of Airport Planning and Programming.

[FR Doc. 2022-07620 Filed 4-8-22; 8:45 am]

BILLING CODE 4910-13-P